DEPARTMENT OF COMMERCE

International Trade Administration

Export Trade Certificate of Review

AGENCY: International Trade Administration, Commerce.

ACTION: Notice of issuance of an amended Export Trade Certificate of Review, Application No. 84-14A12.

SUMMARY: The Department of Commerce has issued an amendment to the Export Trade Certificate of Review granted to Northwest Fruit Exporters (“NFE”) on June 11, 1984. Notice of issuance of the Certificate was published in the Federal Register on June 14, 1984 (49 FR 24581).

FOR FURTHER INFORMATION CONTACT: Jeffrey C. Anspacher, Director, Office of Export Trading Company Affairs, International Trade Administration, (202) 482-5131 (this is not a toll-free number) or e-mail at oetca@ita.doc.gov.

SUPPLEMENTARY INFORMATION: Title III of the Export Trading Company Act of 1982 (15 U.S.C. 4001-4021) authorizes the Secretary of Commerce to issue Export Trade Certificates of Review. The regulations implementing Title III are found at 15 CFR part 325 (2002).

The Office of Export Trading Company Affairs (“OETCA”) is issuing this notice pursuant to 15 CFR 325.6(b), which requires the Department of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Amended Certificate

Export Trade Certificate of Review No. 84-00012, was issued to NFE on June 11, 1984 (49 FR 24581, June 14, 1984) and previously amended on May 2, 1988 (53 FR 16306, May 6, 1988); September 21, 1988 (53 FR 37628, September 27, 1988); September 20, 1989 (54 FR 39454, September 26, 1989); November 19, 1992 (57 FR 55510, November 25, 1992); August 16, 1994 (59 FR 43093, August 22, 1994); November 4, 1996 (61 FR 57850, November 8, 1996); October 22, 1997 (62 FR 55783, October 28, 1997); November 2, 1998 (63 FR 60304, November 9, 1998); October 20, 1999 (64 FR 57438, October 25, 1999); October 16, 2000 (65 FR 63567, October 24, 2000); October 5, 2001 (66 FR 52111, October 12,2001); and October 3, 2002 (67 FR 62957, October 9, 2002).

NFE's Export Trade Certificate of Review has been amended to:

1. Add each of the following companies as a new “Member” of the Certificate within the meaning of § 325.2(1) of the Regulations (15 CFR 325.2(1)): Cervantes Packing and Storage, LLC, Sunnyside, Washington; Fox Orchards, Mattawa, Washington; and Garrett Ranches Packing, Wilder, Idaho;

2. Delete the following companies as “Members” of the Certificate: Keystone Fruit Co., L.L.C. dba Keystone Ranch, Riverside, Washington; Naumes, Inc., Chelan, Washington; Phillippi Fruit Co., Inc., Wenatchee, Washington; and Valicoff Fruit Company, Wapato, Washington; and

3. Change the listing of the following Members: “Bertha's Marketing, Inc., Wenatchee, Washington” to the new listing “Bertha's Marketing Inc., Wenatchee, Washington”; “Lloyd Garretson, Co., Yakima, Washington” to the new listing “Lloyd Garretson Co., Yakima, Washington”; “Sund-Roy, L.L.C., Yakima, Washington” to the new listing “Sund-Roy L.L.C., Yakima, Washington”; “Trout-Blue Chelan, Inc., Chelan, Washington” to the new listing “Chelan Fruit Company, Chelan, Washington”; and “Valley Fruit III, LLC, Wapato, Washington” to the new listing “Valley Fruit III LLC, Wapato, Washington”.

The effective date of the amended certificate is June 20, 2003. A copy of the amended certificate will be kept in the International Trade Administration's Freedom of Information

Records Inspection Facility, Room 4102, U.S. Department of Commerce, 14th Street and Constitution Avenue, NW., Washington, DC 20230.

Dated: September 11, 2003.
Jeffrey C. Anspacher,
Director, Office of Export Trading Company Affairs.

[FR Doc. 03-23967 Filed 9-18-03; 8:45 am]

BILLING CODE 3510-DR-P